DEPARTMENT OF HOMELAND SECURITY

U.S. Citizenship and Immigration Services

[CIS No. 2423-08; DHS Docket No. USCIS 2008-0031]

RIN 1615-ZA60

Small Business Non-Retaliation Policy

AGENCY: U.S. Citizenship and Immigration Services, DHS.

ACTION: Notice.

SUMMARY: In support of the initiatives of the National Ombudsman of the U.S. Small Business Administration, U.S. Citizenship and Immigration Services (USCIS) announces adoption of a small business non-retaliation policy. If a small business questions or lodges a complaint regarding a USCIS policy or action or seeks help from others to deal with such a policy or action, USCIS will not retaliate against that small business in any fashion. The full policy is established by this notice.

DATES: The Acting Director of USCIS approved the small business non-retaliation policy on June 24, 2008. The policy remains in effect until modified or rescinded by the Acting Director.

ADDRESSES: You may submit comments about this policy although USCIS is not officially requesting public comments. To ensure that your comments and related materials are not entered more than once in the docket, please submit them by only one of the following methods:

• Federal eRulemaking Portal: http://www.regulations.gov. Follow the instructions for submitting comments.

• Mail: Chief, Regulatory Management Division, U.S. Citizenship and Immigration Services, Department of Homeland Security, 111 Massachusetts Avenue, NW., Suite 3008, Washington, DC 20529. To ensure proper handling, please reference DHS Docket No. USCIS-2008-0031 on your correspondence. This mailing address may also be used for paper, disk, or CD-ROM submissions.

• Hand Delivery/Courier: Regulatory Management Division, U.S. Citizenship and Immigration Services, Department of Homeland Security, 111 Massachusetts Avenue, NW., Suite 3008, Washington, DC 20529. Contact Telephone Number (202) 272-8377.

FOR FURTHER INFORMATION CONTACT: Christine Gooding, Customer Assistance Office, U.S. Citizenship and Immigration Services, 111 Massachusetts Ave., NW., 6th Floor, Washington, DC 20539; Phone: 1-800-357-2099

SUPPLEMENTARY INFORMATION: The National Ombudsman of the U.S. Small Business Administration (SBA) has asked each Federal agency to adopt a policy that the agency will not retaliate against small businesses that question or complain about the way the agency does business. On June 24, 2008, the Acting Director of U.S. Citizenship and Immigration Services (USCIS) approved the following statement of USCIS policy:

If a small business questions or complains about a U.S. Citizenship and Immigration Services policy or action or seeks help from others to deal with a USCIS policy or action, USCIS will not retaliate against that small business in any way. If a small business thinks that USCIS has not followed this policy, the agency will investigate, take appropriate action, and ensure that mistakes are not repeated. Small businesses may comment, ask questions, or file a complaint about USCIS policies or actions by contacting the USCIS Customer Assistance Office, local USCIS offices, or the Small Business Administration's Office of the National Ombudsman at 1-888-REG-FAIR (734-3247), fax 202-481-5719; e-mail ombudsman@sba.gov.

Small businesses generally are independently owned and operated and are not dominant in their fields. If you need help determining whether or not your business qualifies as a “small business,” contact the SBA's Office of the National Ombudsman using the information as noted above.

Dated: June 24, 2008.
Jonathan R. Scharfen,
Acting Director, U.S. Citizenship and Immigration Services.

[FR Doc. E8-14843 Filed 6-30-08; 8:45 am]

BILLING CODE 9111-97-P